DEPARTMENT OF HEALTH AND HUMAN SERVICES

Health Resources and Services Administration

National Vaccine Injury Compensation Program; List of Petitions Received

AGENCY: Health Resources and Services Administration, HHS.

ACTION: Notice.

SUMMARY: The Health Resources and Services Administration (HRSA) is publishing this notice of petitions received under the National Vaccine Injury Compensation Program (the Program), as required by Section 2112(b)(2) of the Public Health Service (PHS) Act, as amended. While the Secretary of Health and Human Services is named as the respondent in all proceedings brought by the filing of petitions for compensation under the Program, the United States Court of Federal Claims is charged by statute with responsibility for considering and acting upon the petitions.

FOR FURTHER INFORMATION CONTACT: For information about requirements for filing petitions, and the Program in general, contact the Clerk, United States Court of Federal Claims, 717 Madison Place NW., Washington, DC 20005, (202) 357-6400. For information on HRSA's role in the Program, contact the Director, National Vaccine Injury Compensation Program, 5600 Fishers Lane, Room 11C-26, Rockville, MD 20857; (301) 443-6593, or visit our Web site at: http://www.hrsa.gov/vaccinecompensation/index.html.

SUPPLEMENTARY INFORMATION: The Program provides a system of no-fault compensation for certain individuals who have been injured by specified childhood vaccines. Subtitle 2 of Title XXI of the PHS Act, 42 U.S.C. 300aa-10 et seq., provides that those seeking compensation are to file a petition with the U.S. Court of Federal Claims and to serve a copy of the petition on the Secretary of Health and Human Services, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at 42 CFR 100.3. This Table lists for each covered childhood vaccine the conditions that may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that within 30 days after the Secretary receives service of any petition filed under section 2111 the Secretary shall publish notice of such petition in the Federal Register. Set forth below is a list of petitions received by HRSA on May 1, 2015, through May 31, 2015. This list provides the name of petitioner, city and state of vaccination (if unknown then city and state of person or attorney filing claim), and case number. In cases where the Court has redacted the name of a petitioner and/or the case number, the list reflects such redaction.

In accordance with Section 2112(b)(2), all interested persons may submit written information relevant to the issues described in Section 2112(b)(2) of the PHS Act in the case of the petitions listed below. Any person choosing to do so should file an original and three (3) copies of the information with the Clerk of the U.S. Court of Federal Claims at the address listed above (under the heading “For Further Information Contact”), with a copy to HRSA addressed to Director, Division of Injury Compensation Programs, Healthcare Systems Bureau, 5600 Fishers Lane, Room 11C-26, Rockville, MD 20857. The Court's caption (Petitioner's Name v. Secretary of Health and Human Services) and the docket number assigned to the petition should be used as the caption for the written submission. Chapter 35 of title 44, United States Code, related to paperwork reduction, does not apply to information required for purposes of carrying out the Program.

Dated: June 26, 2015.
James Macrae,
Acting Administrator.

List of Petitions Filed

1. Herbert W. Morgan, La Jolla, California, Court of Federal Claims No: 15-0441V

2. John Dauksts, Jenison, Michigan, Court of Federal Claims No: 15-0442V

3. Roberta Reyna, Baraboo, Wisconsin, Court of Federal Claims No: 15-0443V

4. Elizabeth S. Bell, Cayce, South Carolina, Court of Federal Claims No: 15-0444V

5. Lillian R. Johnson, Gainesville, Florida, Court of Federal Claims No: 15-0447V

6. Ellen Guyer, Boston, Massachusetts, Court of Federal Claims No: 15-0448V

7. Quentin Prideaux, Boston, Massachusetts, Court of Federal Claims No: 15-0449V

8. Julia Telonidis, West Long Branch, New Jersey, Court of Federal Claims No: 15-0450V

9. Gerda Ulysse, Boston, Massachusetts, Court of Federal Claims No: 15-0451V

10. Harvey McBride, Boston, Massachusetts, Court of Federal Claims No: 15-0452V

11. Julie Feaster, Fairfax, Virginia, Court of Federal Claims No: 15-0455V

12. Donald Harris, Dallas, Texas, Court of Federal Claims No: 15-0461V

13. Kimberly Cox, Griffith, Indiana, Court of Federal Claims No: 15-0462V

14. Miranda Laird, Little Rock, Arkansas, Court of Federal Claims No: 15-0463V

15. Dima Schloss on behalf of N. S., Ann Arbor, Michigan, Court of Federal Claims No: 15-0465V

16. Sholom Wolman and Yonit Wolman on behalf of S. D. W., New York, New York, Court of Federal Claims No: 15-0466V

17. Elizabeth J. Zdroik, Richmond, Virginia, Court of Federal Claims No: 15-0468V

18. Joseph Stout, Oxford, Ohio, Court of Federal Claims No: 15-0469V

19. Ronald Cooper on behalf of J. C., Wellesley Hills, Massachusetts, Court of Federal Claims No: 15-0471V

20. Robert Shupe, Tiffin, Ohio, Court of Federal Claims No: 15-0472V

21. Harold Duke, Rock Hill, South Carolina, Court of Federal Claims No: 15-0473V

22. James Perales and Joy Perales on behalf of J. P., Dallas, Texas, Court of Federal Claims No: 15-0474V

23. Judy G. Davidson, Atlanta, Georgia, Court of Federal Claims No: 15-0475V

24. Roy Bush, Boston, Massachusetts, Court of Federal Claims No: 15-0476V

25. Kimberly Sengenberger, Murray, Kentucky, Court of Federal Claims No: 15-0477V

26. Adina Small, Boston, Massachusetts, Court of Federal Claims No: 15-0478V

27. Andrew Hoose, Boston, Massachusetts, Court of Federal Claims No: 15-0479V

28. James Czerwonka, Barron, Wisconsin, Court of Federal Claims No: 15-0482V

29. Lavern Griffis, Oklahoma City, Oklahoma, Court of Federal Claims No: 15-0483V

30. Logan Osberg, Mount Kisco, New York, Court of Federal Claims No: 15-0484V

31. Rosa Allicock on behalf of M. A., Phoenix, Arizona, Court of Federal Claims No: 15-0485V

32. Jacqueline F. King on behalf of Brooklyn Hernandez, Nags Head, North Carolina, Court of Federal Claims No: 15-0486V

33. Lillian Rivera, Bronx, New York, Court of Federal Claims No: 15-0487V

34. Cara Specks, Chicago, Illinois, Court of Federal Claims No: 15-0491V

35. Barry George Jackson, Pasadena, California, Court of Federal Claims No: 15-0492V

36. Enrique Rodriguez-Luna, Arlington, Virginia, Court of Federal Claims No: 15-0496V

37. Michael C. King, Plainfield, Indiana, Court of Federal Claims No: 15-0500V

38. Stephanie Delapaz, Houston, Texas, Court of Federal Claims No: 15-0502V

39. Bernhard Kreten, San Diego, California, Court of Federal Claims No: 15-0504V

40. Adam Raszkiewicz, Mount Kisco, New York, Court of Federal Claims No: 15-0509V

41. Susana Gonzales-Sexauer, Las Cruces, New Mexico, Court of Federal Claims No: 15-0512V

42. Anne Tinsley, Piermont, New York, Court of Federal Claims No: 15-0513V

43. Robin Adkins on behalf of Sherman Arrowood, Deceased, Lavalette, West Virginia, Court of Federal Claims No: 15-0514V

44. Elizabeth Gram on behalf of A. L. M., Houston, Texas, Court of Federal Claims No: 15-0515V

45. Beth Britt, Sarasota, Florida, Court of Federal Claims No: 15-0516V

46. Jeremy Eamick, Fayetteville, North Carolina, Court of Federal Claims No: 15-0519V

47. Jeremy Svagdis and Kimberly Svagdis on behalf of A. S., Cumming, Georgia, Court of Federal Claims No: 15-0520V

48. David Wilson on behalf of Estelle Maltz, Deceased, San Diego, California, Court of Federal Claims No: 15-0521V

49. Jeffrey Norris, Granite Falls, North Carolina, Court of Federal Claims No: 15-0525V

50. Lee Liggett, Washington, District of Columbia, Court of Federal Claims No: 15-0526V

51. Terrence Francis and Michelle Francis on behalf of M. F., Middletown, Delaware, Court of Federal Claims No: 15-0527V

52. Scott A. Fundermann, Correctionville, Iowa, Court of Federal Claims No: 15-0529V

53. MaryAnn Story, Layton, Utah, Court of Federal Claims No: 15-0530V

54. Raymond L. Sparks, Riverton, Wyoming, Court of Federal Claims No: 15-0531V

55. Karl Steger, Washington, District of Columbia, Court of Federal Claims No: 15-0532V

56. Brittany Arnold on behalf of L. H., Philadelphia, Pennsylvania, Court of Federal Claims No: 15-0534V

57. Vernon D. Begley, Florida City, Florida, Court of Federal Claims No: 15-0535V

58. Winifred Campbell, Depew, New York, Court of Federal Claims No: 15-0541V

59. Diane M. Sphar, Cincinnati, Ohio, Court of Federal Claims No: 15-0544V

60. Catherine Henry, Memphis, Tennessee, Court of Federal Claims No: 15-0545V

61. Robert Berkley, Houston, Texas, Court of Federal Claims No: 15-0546V

62. Angela Thomas, Philadelphia, Pennsylvania, Court of Federal Claims No: 15-0550V

63. Roby Wilson and Jeana Wilson on behalf of J. W., Washington, District of Columbia, Court of Federal Claims No: 15-0551V

[FR Doc. 2015-16170 Filed 7-6-15; 8:45 am]

BILLING CODE 4165-15-P